DEPARTMENT OF EDUCATION

Notice of Proposed Information Collection Requests

AGENCY: Department of Education.

SUMMARY: The Acting Director, Information Collection Clearance Division, Regulatory Information Management Services, Office of Management, invites comments on the proposed information collection requests as required by the Paperwork Reduction Act of 1995.

DATES: Interested persons are invited to submit comments on or before October 12, 2010.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The Acting Director, Information Collection Clearance Division, Regulatory Information Management Services, Office of Management, publishes that notice containing proposed information collection requests prior to submission of these requests to OMB. Each proposed information collection, grouped by office, contains the following: (1) Type of review requested, e.g. new, revision, extension, existing or reinstatement; (2) Title; (3) Summary of the collection; (4) Description of the need for, and proposed use of, the information; (5) Respondents and frequency of collection; and (6) Reporting and/or Recordkeeping burden. OMB invites public comment.

The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology.

Dated: August 5, 2010.
James Hyler,
Acting Director, Information Collection Clearance Division, Regulatory Information Management Services, Office of Management.

Institute of Education Sciences

Type of Review: Reinstatement.

Title: Schools and Staffing Survey (SASS 2011/12) Preliminary Field Activities 2010/11.

OMB #: 1850-0598.

Agency Form Number(s): N/A.

Frequency: One time.

Affected Public: State, Local, or Tribal Gov't, State Educational Agencies (SEAs) or Local Educational Agencies (LEAs); Businesses or other for-profit; Not-for-profit institutions.

Reporting and Recordkeeping Hour Burden:

Responses: 18,503.

Burden Hours: 886.

Abstract: The Schools and Staffing Survey (SASS) is an in-depth, nationally representative survey of first through twelfth grade public and private school teachers, principals, schools, library media centers, and school districts. For public school districts, principals, schools, teachers and school libraries, the survey estimates are state-representative. For private school principals, schools, and teachers, the survey estimates are representative of private school types. There are two additional components within SASS's 4-year data collection cycle: The Teacher Follow-up Survey (TFS) and the Principal Follow-up Survey (PFS), which are conducted a year after the SASS main collection. SASS respondents include public and private school principals, teachers, and school and school district staff. Topics covered include characteristics of teachers, principals, schools, school libraries, teacher training opportunities, retention, retirement, hiring, and shortages. This submission for SASS 2011/12 requests OMB approval for preliminary field activities to take place prior to data collection in the fall of 2011, including (a) Submitting SASS research applications to special districts that require prior research approval before their schools and a coordinator can be recruited for the study; (b) conducting a calling operation to verify whether a subset of districts are one-school districts and will require receiving a combined school- and district-level questionnaire; (c) contacting all of the remaining districts, asking whether they are willing to provide a Teacher Listing Form at a later time and to request email addresses for sampled school principals; and (d) mailing of a pre-contact letter to sample schools to verify the mailing address of the school and to notify the school about the upcoming data collection.

Requests for copies of the proposed information collection request may be accessed from http://edicsweb.ed.gov, by selecting the “Browse Pending Collections” link and by clicking on link number 4376. When you access the information collection, click on “Download Attachments” to view. Written requests for information should be addressed to U.S. Department of Education, 400 Maryland Avenue, SW., LBJ, Washington, DC 20202-4537. Requests may also be electronically mailed to ICDocketMgr@ed.gov or faxed to 202-401-0920. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. 2010-19811 Filed 8-10-10; 8:45 am]

BILLING CODE 4000-01-P